DEPARTMENT OF ENERGY

Federal Energy Regulatory Commission

[Docket No. RM07-10-000]

Transparency Provisions of Section 23 of the Natural Gas Act; Notice of Form No. 552 Follow-Up Workshop

April 30, 2008.

The follow-up staff workshop in the above-referenced proceeding is scheduled for May 19, 2008, at the Federal Energy Regulatory Commission, 888 First Street, NE., Washington, DC 20426, in the Commission Meeting Room (2-C) from 9:30 a.m. until 3:30 p.m. (EDT). This is a continuance of the April 22, 2008, Form No. 552 Technical Conference.

Order No. 704, Transparency Provisions of Section 23 of the Natural Gas Act,¹ requires certain natural gas buyers and sellers to identify themselves to the Commission and report certain information about their physical natural gas transactions for the previous calendar year on Form No. 552, established for the purpose of obtaining information about the amount of daily or monthly fixed-price trading that is eligible to be reported to price index publishers as compared to the amount of trading that uses or refers to price indices. This workshop will address the questions submitted prior to the April 22 Technical Conference in connection with the filing of Form No. 552 as well as issues brought up at that conference.

¹ Transparency Provisions of Section 23 of the Natural Gas Act, Order No. 704, 73 FR 1014 (Jan. 4, 2008), FERC Stats. & Regs. ¶ 31,260 (2008).

Staff is issuing this Notice to alert interested individuals of the date for the upcoming workshop, and to note that on May 12, 2008, staff will post a link on the FERC calendar announcing the May 19 workshop, to access staff's draft responses to the questions that have been submitted and an agenda for the May 19 workshop.

The session will neither be web-cast nor transcribed. All interested persons are invited to attend in person or participate via teleconference in the May 19 workshop. There is no fee to register, to participate via teleconference, or to attend the conference.

Those interested in participating by phone must register no later than May 14, 2008, on the FERC Web site at https://www.ferc.gov/whats-new/registration/form-552-05-19-form.asp. Those who will participate in person are encouraged, but not required, to register. Information for the conference call will be e-mailed to registered participants. For additional information, please contact Michelle Reaux of FERC's Office of Enforcement at (202) 502-6497 or by e-mail at michelle.reaux@ferc.gov.

Commission conferences and meetings are accessible under section 508 of the Rehabilitation Act of 1973. For accessibility accommodations please send an e-mail to accessibility@ferc.gov or call toll free (866) 208-3372 (voice) or 202-502-8659 (TTY), or send a fax to 202-208-2106 with the required accommodations.

Kimberly D. Bose,
Secretary.

[FR Doc. E8-10123 Filed 5-7-08; 8:45 am]

BILLING CODE 6717-01-P